FEDERAL HOUSING FINANCE AGENCY

12 CFR Part 1250

DEPARTMENT OF HOUSING AND URBAN DEVELOPMENT

Office of Federal Housing Enterprise Oversight

12 CFR Part 1773

RIN 2590-AA09

Flood Insurance

AGENCIES: Federal Housing Finance Agency; Office of Federal Housing Enterprise Oversight.

ACTION: Final Regulation; correction.

SUMMARY: The Federal Housing Finance Agency (FHFA) is correcting the final Flood Insurance Regulation, published in the Federal Register on January 15, 2009 (74 FR 2347), by deleting the addition of a subchapter.

DATES: Effective February 17, 2009.

FOR FURTHER INFORMATION CONTACT: Andra Grossman, Counsel, telephone (202) 343-1313 (not a toll-free number); Federal Housing Finance Agency, Fourth Floor, 1700 G Street, NW., Washington, DC 20552. The telephone number for the Telecommunications Device for the Deaf is (800) 877-8339.

SUPPLEMENTARY INFORMATION: The FHFA is correcting the final Flood Insurance Regulation that was published in the Federal Register on January 15, 2009 (74 FR 2347). The final Flood Insurance Regulation (effective on February 17, 2009) amends Chapter XII of Title 12, of the Code of Federal Regulations and when effective would establish a new “Subchapter C—Enterprises”. On January 30, 2009, before the effective date of the final Flood Insurance Regulation, FHFA issued another regulation which established Subchapter C (74 FR 5609). This correction to the final Flood Insurance Regulation deletes the addition of Subchapter C because it has already been added.

In FR Doc. E9-809, appearing on page 2350 in the Federal Register of Thursday, January 15, 2009, the following correction is made:

CHAPTER XII—FEDERAL HOUSING FINANCE AGENCY [Corrected]

1. On page 2350, in the first column, in CHAPTER XII—FEDERAL HOUSING FINANCE AGENCY, in amendment 1, the instruction “Add Subchapter C, consisting of part 1250 to read as follows:” is corrected to read “Add part 1250 to read as follows:”.

Dated: February 10, 2009.
James B. Lockhart III,
Director, Federal Housing Finance Agency.

[FR Doc. E9-3243 Filed 2-13-09; 8:45 am]

BILLING CODE 8070-01-P